DEPARTMENT OF COMMERCE

National Oceanic and Atmospheric Administration

50 CFR Part 300

[RTID 0648-XD573]

Fraser River Pink Salmon Fisheries; Inseason Orders

AGENCY: National Marine Fisheries Service (NMFS), National Oceanic and Atmospheric Administration (NOAA), Commerce.

ACTION: Temporary rule; inseason orders.

SUMMARY: NMFS publishes inseason orders to regulate treaty tribal and non-tribal (all citizen) commercial salmon fisheries in United States (U.S.) waters of the Fraser River Panel (Panel) Area. The orders were issued by the (Panel) of the Pacific Salmon Commission (Commission) and subsequently approved and issued by NMFS during 2023 for pink salmon fisheries within the U.S. Panel Area. These orders established fishing dates, times, and areas for the gear types of U.S. treaty tribal and all citizen commercial fisheries during the period the Panel exercised jurisdiction over these fisheries.

DATES: The effective dates for the inseason orders are set out in this document under the heading Inseason Orders.

FOR FURTHER INFORMATION CONTACT: Anthony Siniscal at 971-322-8407, email: Anthony.siniscal@noaa.gov.

SUPPLEMENTARY INFORMATION: The Treaty between the Government of the United States of America and the Government of Canada concerning Pacific salmon was signed at Ottawa on January 28, 1985, and subsequently was given effect in the United States by the Pacific Salmon Treaty Act (Act) at 16 U.S.C. 3631-3644.

Under authority of the Act, Federal regulations at 50 CFR part 300, subpart F, provide a framework for the implementation of certain regulations of the Commission and inseason orders of the Commission's Panel for U.S. sockeye and pink salmon fisheries in the Fraser River Panel Area.

The regulations close the U.S. portion of the Panel Area to U.S. sockeye and pink salmon tribal and non-tribal commercial fishing unless opened by Panel regulations that are given effect by inseason orders issued by NMFS (50 CFR 300.94(a)(1)). During the fishing season, NMFS may issue inseason orders that establish fishing times and areas consistent with the Commission agreements and regulations of the Panel. Such orders must be consistent with domestic legal obligations and are issued by the Regional Administrator, West Coast Region, NMFS. Official notification of these inseason actions is provided by two telephone hotline numbers described at 50 CFR 300.97(b)(1) and in 84 FR 19729 (May 6, 2019). The inseason orders are published in the Federal Register as soon as practicable after they are issued. Due to the frequency with which inseason orders are issued, publication of orders during the fishing season is impracticable.

Inseason Orders

NMFS issued the following inseason orders for U.S. fisheries within Panel Area waters during the 2023 fishing season, consistent with the orders adopted by the Panel. Each of the following inseason actions was effective upon announcement on telephone hotline numbers as specified at 50 CFR 300.97(b)(1) and in 88 FR 30235 (May 11, 2023); those dates and times are listed herein. The times listed are local times, and the areas designated are Puget Sound Management and Catch Reporting Areas as defined in the Washington State Administrative Code at Chapter 220-301-030.

Fraser River Panel Order Number 2023-01: Issued 3:30 p.m., August 18, 2023

Treaty Tribal Fishery

Areas 4B, 5, and 6C: Open for drift gillnet fishing from 12 p.m. (noon), Saturday, August 19, 2023, through 12 p.m. (noon), Tuesday, August 22, 2023.

Areas 6, 7, and 7A: Open for net fishing from 5 a.m. through 9 p.m., Sunday, August 20, 2023.

Fraser River Panel Order Number 2023-02: Issued 4:30 p.m., August 22, 2023

Treaty Tribal Fishery

Areas 4B, 5, and 6C: Extend for drift gillnet fishing from 12 p.m. (noon), Tuesday, August 22, 2023 through 12 p.m. (noon), Friday, August 25, 2023. Sockeye must be released.

Areas 6, 7, and 7A: Open for net fishing from 5 a.m. through 9 p.m., Wednesday, August 23, 2023 and 5 a.m. through 9 p.m., Friday, August 25, 2023. Sockeye must be released.

All Citizen Fishery

Areas 7 and 7A: Open for purse seine fishing from 5 a.m. through 9 p.m., Thursday, August 24, 2023 and 5 a.m. through 9 p.m., Friday, August 25, 2023. Sockeye must be released.

Areas 7 and 7A: Open for drift gillnet fishing from 8 a.m. through 11:59 p.m., Thursday, August 24, 2023 and 8 a.m. through 11:59 p.m., Friday, August 25, 2023. Sockeye must be released.

Areas 7: Open for reef net fishing 5 a.m. through 9 p.m., Wednesday, August 23, 2023, 5 a.m. through 9 p.m., Thursday, August 24, 2023, and 5 a.m. through 9 p.m., Friday, August 25, 2023. Sockeye must be released.

Fraser River Panel Order Number 2023-03: Issued 2:30 p.m., August 25, 2023

Treaty Tribal Fishery

Areas 4B, 5, and 6C: Extend for drift gillnet fishing from 12 p.m. (noon), Friday, August 25, 2023 through 12 p.m. (noon), Wednesday, August 30, 2023. Sockeye must be released.

Areas 6, 7, and 7A: Open for net fishing 5 a.m., Saturday, August 26, 2023 through 9 a.m., Wednesday, August 30, 2023. Sockeye must be released.

All Citizen Fishery

Areas 7 and 7A: Open for purse seine fishing 5 a.m. through 9 p.m., Saturday, August 26, 2023; 5 a.m. through 9 p.m., Sunday, August 27, 2023; 5 a.m. through 9 p.m., Monday, August 28, 2023; and 5 a.m. through 9 p.m., Tuesday, August 29, 2023. Sockeye must be released.

Areas 7 and 7A: Open for drift gillnet fishing from 8 a.m. through 11:59 p.m., Saturday, August 26, 2023; 8 a.m. through 11:59 p.m., Sunday, August 27, 2023; 8 a.m. through 11:59 p.m., Monday, August 28, 2023; and 8 a.m. through 11:59 p.m., Tuesday, August 29, 2023. Sockeye must be released.

Area 7: Open for reef net fishing 5 a.m. through 9 p.m., Saturday, August 26, 2023; 5 a.m. through 9 p.m., Sunday, August 27, 2023; 5 a.m. through 9 p.m., Monday, August 28, 2023; and 5 a.m. through 9 p.m., Tuesday, August 29, 2023. Sockeye must be released.

Fraser River Panel Order Number 2023-04: 1:30 p.m., Issued August 29, 2023

Treaty Tribal Fishery

Areas 4B, 5, and 6C: Extend for drift gillnet fishing from 12 p.m. (noon), Wednesday, August 30, 2023 through 12 p.m. (noon), Friday, September 1, 2023. Sockeye must be released.

Areas 6, 7, and 7A: Extend for net fishing from 9 a.m., Wednesday, August 30, 2023 through 9 a.m., Saturday, September 2, 2023. Sockeye must be released.

All Citizen Fishery

Areas 7 and 7A: Open for purse seine fishing 5 a.m. through 9 p.m., Wednesday, August 30, 2023; 5 a.m. through 9 p.m., Thursday, August 31, 2023; and 5 a.m. through 9 p.m., Friday, September 1, 2023. Sockeye must be released.

Areas 7 and 7A: Open for drift gillnet fishing from 8 a.m. through 11:59 p.m., Wednesday, August 30, 2023; 8 a.m. through 11:59 p.m., Thursday, August 31, 2023; and 8 a.m. through 11:59 p.m., Friday, September 1, 2023. Sockeye must be released.

Area 7: Open for reef net fishing 5 a.m. through 9 p.m., Wednesday, August 30, 2023; 5 a.m. through 9 p.m., Thursday, August 31, 2023; and 5 a.m. through 9 p.m., Friday, September 1, 2023. Sockeye must be released.

Fraser River Panel Order Number 2023-05: Issued 1:30 p.m., September 1, 2023

Treaty Tribal Fishery

Areas 4B, 5, and 6C: Extend for drift gillnet fishing from 12 p.m. (noon), Friday, September 1, 2023 through 12 p.m. (noon), Wednesday, September 6, 2023. Sockeye must be released.

Areas 6, 7, and 7A: Extend for net fishing from 9 a.m., Saturday, September 2, 2023 through 9 a.m., Wednesday, September 6, 2023. Sockeye must be released.

All Citizen Fishery

Areas 7 and 7A: Open for purse seine fishing 5 a.m. through 9 p.m., Saturday, September 2, 2023; 5 a.m. through 9 p.m., Sunday, September 3, 2023; 5 a.m. through 9 p.m., Monday, September 4, 2023; and 5 a.m. through 9 p.m., Tuesday, September 5, 2023. Sockeye must be released.

Areas 7 and 7A: Open for drift gillnet fishing from 8 a.m. through 11:59 p.m., Saturday, September 2, 2023; 8 a.m. through 11:59 p.m., Sunday, September 3, 2023; 8 a.m. through 11:59 p.m., Monday, September 4, 2023; and 8 a.m. through 11:59 p.m., Tuesday, September 5, 2023. Sockeye must be released.

Area 7: Open for reef net fishing 5 a.m. through 9 p.m., Saturday, September 2, 2023; 5 a.m. through 9 p.m., Sunday, September 3, 2023; 5 a.m. through 9 p.m., Monday, September 4, 2023; and 5 a.m. through 9 p.m., Tuesday, September 5, 2023. Sockeye must be released.

Fraser River Panel Order Number 2023-06: Issued 12:00 p.m., September 5, 2023

Treaty Tribal Fishery

Areas 4B, 5, and 6C: Extend for drift gillnet fishing from 12 p.m. (noon), Wednesday, September 6, 2023 through 12 p.m. (noon), Saturday, September 9, 2023. Sockeye must be released.

Areas 6, 7, and 7A: Extend for net fishing from 9 a.m., Wednesday, September 6, 2023 through 9 a.m., Saturday, September 9, 2023. Sockeye must be released.

All Citizen Fishery

Areas 7 and 7A: Open for purse seine fishing 5 a.m. through 9 p.m., Wednesday, September 6, 2023; 5 a.m. through 9 p.m., Thursday, September 7, 2023; and 5 a.m. through 9 p.m., Friday, September 8, 2023. Sockeye must be released.

Areas 7 and 7A: Open for drift gillnet fishing from 8 a.m. through 11:59 p.m., Wednesday, September 6, 2023; 8 a.m. through 11:59 p.m., Thursday, September 7, 2023; and 8 a.m. through 11:59 p.m., Friday, September 8, 2023. Sockeye must be released.

Area 7: Open for reef net fishing 5 a.m. through 9 p.m., Wednesday, September 6, 2023; 5 a.m. through 9 p.m., Thursday, September 7, 2023; 5 a.m. through 9 p.m., and Friday, September 8, 2023. Sockeye must be released.

Fraser River Panel Order Number 2023-07: Issued 12:00 p.m., September 8, 2023

Treaty Tribal Fishery

Areas 4B, 5, and 6C: Relinquish regulatory control effective 11:59 p.m., Saturday, September 9, 2023.

Areas 6, 7, and 7A: Extend for net fishing from 9 a.m., Saturday, September 9, 2023 through 9 a.m., Wednesday, September 13, 2023. Sockeye must be released.

All Citizen Fishery

Areas 7 and 7A: Open for purse seine fishing 5:30 a.m. through 9 p.m., Saturday, September 9, 2023; 5:30 a.m. through 9 p.m., Sunday, September 10, 2023; 5:30 a.m. through 9 p.m., Monday, September 11, 2023; and 5:30 a.m. through 9 p.m., Tuesday, September 12, 2023. Sockeye must be released.

Areas 7 and 7A: Open for drift gillnet fishing from 8 a.m. through 9 p.m., Saturday, September 9, 2023; 8 a.m. through 9 p.m., Sunday, September 10, 2023; 8 a.m. through 9 p.m., Monday, September 11, 2023; and 8 a.m. through 9 p.m., Tuesday, September 12, 2023. Sockeye must be released.

Area 7: Open for reef net fishing 5:30 a.m. through 9 p.m., Saturday, September 9, 2023; 5:30 a.m. through 9 p.m., Sunday, September 10, 2023; 5:30 a.m. through 9 p.m., Monday, September 11, 2023; and 5:30 a.m. through 9 p.m., Tuesday, September 12, 2023. Sockeye must be released.

Fraser River Panel Order Number 2023-08: Issued 12:00 p.m., September 12, 2023

Treaty Tribal Fishery

Areas 6, 7, and 7A: Extend for net fishing from 9 a.m. through 11:59 p.m., Wednesday, September 13, 2023. Sockeye must be released.

Treaty Tribal and All Citizen Fisheries

Areas 6, 7, and 7A, excluding the Apex: Relinquish regulatory control effective 11:59 p.m., Wednesday, September 13, 2023. The Apex is those waters north and west of the Area 7A “East Point Line,” defined as a line projected from the low water range marker in Boundary Bay on the International Boundary through the east tip of Point Roberts in the state of Washington to the East Point light on Saturna Island in the Province of British Columbia.

Classification

The Assistant Administrator for Fisheries NOAA (AA), finds that good cause exists for the inseason orders to be issued without affording the public prior notice and opportunity for comment under 5 U.S.C. 553(b)(B) as such prior notice and opportunity for comments is impracticable and contrary to the public interest. Prior notice and opportunity for public comment is impracticable because of insufficient time between the time the stock abundance information is available to determine how much fishing can be allowed and the time the fishery must open or close in order to harvest the appropriate amount of fish while they are available.

The AA also finds good cause to waive the 30-day delay in the effective date, required under 5 U.S.C. 553(d)(3), of the inseason orders. A delay in the effective date of the inseason orders would not allow fishers appropriately controlled access to the available fish at that time they are available.

This action is authorized by 50 CFR 300.97, and is exempt from review under Executive Order 12866.

Authority: 16 U.S.C. 3636(b).

Dated: December 19, 2023.
Everett Wayne Baxter,
Acting Director, Office of Sustainable Fisheries, National Marine Fisheries Service.

[FR Doc. 2023-28267 Filed 12-22-23; 8:45 am]

BILLING CODE 3510-22-P